Title 3—

The President

Executive Order 13471 of August 28, 2008

Further Amendments To Executive Order 13285, President's Council On Service And Civic Participation

By the authority vested in me as President by the Constitution and the laws of the United States, and in order to increase the membership and extend the duration of the President's Council on Service and Civic Participation, it is hereby ordered that Executive Order 13285 of January 29, 2003, as amended, is further amended as follows:

Section 1. Section 1 is amended by adding at the end of section 1 the following new subsection: “(c) To conduct and vote on official business during meetings, the Council must convene a quorum of at least 10 Council members.”

Sec. 2. Section 4(b) is amended to read: “(b) Unless further extended by the President, this order shall expire on June 30, 2009.”

Sec. 3. Section 4 is amended by adding at the end thereof the following new subsection:

“(c) This order is not intended to, and does not, create any right or benefit, substantive or procedural, enforceable at law or in equity, by any party against the United States, its departments, agencies, or entities, its officers, employees, or agents, or any other person.”

THE WHITE HOUSE,

August 28, 2008

[FR Doc. E8-20436

Filed 8-29-08; 8:45 am]

Billing code 3195-01-P